COMMISSION ON CIVIL RIGHTS

Notice of Public Meeting of the Mississippi Advisory Committee; Correction

AGENCY: U.S. Commission on Civil Rights.

ACTION: Notice; correction.

SUMMARY: The U.S. Commission on Civil Rights published a document in the Federal Register of July 21, 2015, concerning notice of a public meeting of the Mississippi Advisory Committee. The public meeting has been cancelled and will be rescheduled.

FOR FURTHER INFORMATION CONTACT: Melissa Mojnaroski, DFO, at 312-353-8311 or mwojnaroski@usccr.gov.

Correction

In the Federal Register of July 21, 2015, in FR Doc. 2015-17785, on pages 43060-43061, withdraw the notice of a meeting of the Mississippi Advisory Committee for September 8, 2015, via conference call. The meeting has been cancelled and will be rescheduled.

Dated: September 4, 2015.
David Mussatt,
Chief Regional Programs Unit.

[FR Doc. 2015-22824 Filed 9-9-15; 8:45 am]

BILLING CODE 6335-01-P